DEPARTMENT OF COMMERCE

International Trade Administration

[A-823-809]

Steel Concrete Reinforcing Bars from Ukraine; Final Results of the Sunset Review of Antidumping Duty Order

AGENCY: Import Administration, International Trade Administration, Department of Commerce

SUMMARY: On November 27, 2006, the Department of Commerce (“the Department”) published a notice of preliminary results of the full sunset review of the antidumping duty order on steel concrete reinforcing bars (“rebar”) from Ukraine pursuant to section 751(c) of the Tariff Act of 1930, as amended (“the Act”). We provided interested parties an opportunity to comment on our preliminary results. We did not receive comments from either domestic or respondent interested parties. As a result of this review, the Department finds that revocation of this order would be likely to lead to continuation or recurrence of dumping at the levels indicated in the “Final Results of Review” section of this notice.

EFFECTIVE DATE: March 5, 2007.

FOR FURTHER INFORMATION CONTACT: Audrey R. Twyman or Brandon Farlander, AD/CVD Operations, Office 1, Import Administration, International Trade Administration, U.S. Department of Commerce, 14th Street & Constitution Avenue, NW, Washington, DC, 20230; telephone: 202-482-3534 and 202-482-0182, respectively.

SUPPLEMENTARY INFORMATION:

Background

On November 27, 2006, the Department published in the Federal Register a notice of preliminary results of the full sunset review of the antidumping duty order on rebar from Ukraine, pursuant to section 751(c) of the Act. See Steel Concrete Reinforcing Bars from Ukraine; Preliminary Results of the Sunset Review of Antidumping Duty Order, 71 FR 68543 (November 27, 2006) (“Preliminary Results”). In our Preliminary Results, we determined that revocation of the order would likely result in continuation or recurrence of dumping with a margin of 41.69 percent for the all others rate, including Mittal Steel Kryviy Rih and Krivorozhstal Steel Works. We did not receive a case brief on behalf of either domestic or respondent interested parties within the deadline specified in 19 CFR 351.309(c)(1)(i).

Scope of the Order

The product covered by this order is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the order is dispositive.

Analysis of Comments Received

The Department did not receive case briefs from either domestic or respondent interested parties. Therefore, we have not made any changes to our Preliminary Results.

Final Results of Review

We determine that revocation of the antidumping duty order on rebar from Ukraine would be likely to lead to continuation or recurrence of dumping at the following weighted-average margin:

Manufacturers/Producers/Exporters | Weighted-Average Margin (Percent)
All Others Rate, including Mittal Steel Kryviy Rih and “Krivorozhstal” Steel Works¹ | 41.69
¹ As of February 1, 2006, Ukraine graduated to market economy status. See Final Results of Inquiry Into Ukraine's Status as a Non-Market Economy Country, 71 FR 9520 (February 24, 2006). As a result, the Ukraine wide rate is now the All Others rate. Mittal Steel is considered part of the all others rate because a successor-in-interest determination has not been made. See, e.g., Cut-to-Length Carbon Steel Plate from Belgium, Brazil, Finland, Germany, Mexico, Poland, Romania, Spain, Sweden, and the United Kingdom and Carbon Steel Plate from Taiwan; Second Five-Year (Sunset) Reviews of Antidumping Duty Orders and Antidumping Finding; Final Results, 71 FR 11577, 11579 (March 8, 2006) (explaining that Duferco is subject to the all others rate because the Department had not yet conducted a changed circumstances review to determine the successor-in-interest to Forges de Clabecq, S.A.).

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing these results in accordance with sections 751(c), 752(c), and 777(i)(1) of the Act.

Dated: February 27, 2007.
David M. Spooner,
Assistant Secretary for Import Administration.

[FR Doc. E7-3799 Filed 3-2-07; 8:45 am]

BILLING CODE 3510-DS-S